DEPARTMENT OF THE INTERIOR

Fish and Wildlife Service

[FWS-R8-2008-N0277; 1112-0000-80221-F2]

Southeastern Lincoln County Habitat Conservation Plan, Lincoln County, NV

AGENCY: Fish and Wildlife Service, Interior.

ACTION: Notice of availability and receipt of applications.

SUMMARY: This notice announces the availability of the draft Southeastern Lincoln County Habitat Conservation Plan (HCP), draft Implementing Agreement (IA), and draft Environmental Impact Statement (EIS) for public review and comment. The Fish and Wildlife Service (Service) is considering the issuance of three 30-year incidental take permits for two species in response to receipt of three applications prepared, pursuant to section 10(a)(1)(B) of the Endangered Species Act of 1973, as amended (Act). The applicants are Lincoln County, Nevada; the City of Caliente, Nevada; and the Union Pacific Railroad. The proposed permits would authorize incidental take of species listed under the Act. The permits are needed because take of species could occur during proposed urban development activities and construction of associated infrastructure; road and railroad construction, operation, and maintenance; flood control projects; and agricultural practices (covered activities). The covered activities would occur on approximately 31,000 acres of non-Federal property in southeastern Lincoln County, Nevada.

DATES: Written comments must be received by 5 p.m. on February 18, 2009.

ADDRESSES: Comments should be addressed to Robert D. Williams, Field Supervisor, Nevada Fish and Wildlife Office, 4701 North Torrey Pines Drive, Las Vegas, Nevada 89130, fax number (702) 515-5231 (for further information and instruction on the reviewing and commenting process, see Public Review and Comment section below).

FOR FURTHER INFORMATION CONTACT: Jeri Krueger, Habitat Conservation Planning Coordinator, Nevada Fish and Wildlife Office, 4701 North Torrey Pines Drive, Las Vegas, Nevada 89130, or telephone (702) 515-5230.

SUPPLEMENTARY INFORMATION:

Availability of Documents

Individuals wishing copies of the application, draft HCP, draft EIS, and draft IA, should contact the Service by telephone (see FOR FURTHER INFORMATION CONTACT). Copies of the subject documents are also available for public inspection during regular business hours at the Nevada Fish and Wildlife Office in Las Vegas (see FOR FURTHER INFORMATION CONTACT), and may be downloaded from the Nevada Fish and Wildlife Office Web site at: http://www.fws.gov/nevada.

In addition, copies of all documents are available at the following library locations: (1) Clark County Library, 1401 E. Flamingo Road, Las Vegas, Nevada 89119, (702) 507-3400; (2) Washoe County Library, Downtown Main Branch, 301 South Center Street, Reno, Nevada 89501, (775) 327-8300; (3) Mesquite Library, 121 West First North Street, Mesquite, Nevada 89027, (702) 346-5224; (4) Alamo Branch Library, 100 N. First Street, Alamo, Nevada 89001, (775) 725-3343; (5) Lincoln County Library, 100 Depot Avenue, Caliente, Nevada 89008, (775) 726-3104; and (6) Lincoln County Library, 63 Main Street, Pioche, Nevada 89043, (775) 962-5244.

Background Information

Section 9 of the Act (16 U.S.C. 1531 et seq.) and Federal regulations prohibit the take of fish and wildlife species listed as endangered or threatened. Take of federally listed fish or wildlife is defined under section 3 of the Act as including to “harass, harm, pursue, hunt, shoot, wound, kill, trap, capture, or collect, or to attempt to engage in such conduct” (16 U.S.C. 1532). Harm includes significant habitat modification or degradation that actually kills or injures listed wildlife by significantly impairing essential behavioral patterns, including breeding, feeding, and sheltering (50 CFR 17.3(c)). Under limited circumstances, the Service may issue permits to authorize incidental take of listed fish or wildlife; i.e., take that is incidental to, and not the purpose of, carrying out an otherwise lawful activity. Regulations governing incidental take permits for threatened species and endangered species are at 50 CFR 17.32 and 17.22, respectively.

The Service has received three incidental take permit applications for implementation of the HCP. The applications have been prepared and submitted by Lincoln County, Nevada; the City of Caliente, Nevada; and the Union Pacific Railroad (collectively, the applicants). The applicants have prepared the HCP to satisfy the application requirements for permits issued under section 10(a)(1)(B) of the Act.

The applicants are seeking permits for the incidental take of desert tortoise (Gopherus agassizii) and southwestern willow flycatcher (Empidonax traillii extimus) for a term of 30 years. Incidental take of these species may occur on approximately 31,000 acres of habitat for the tortoise and the flycatcher within the planning area for the HCP (covered area). The covered activities may result in the loss of up to 20,000 acres of desert tortoise habitat, and up to 85 acres of southwestern willow flycatcher habitat during the term of the permit. The covered area includes the non-Federal lands on which the covered activities would occur, and Federal lands administered by the Bureau of Land Management (BLM), on which most of the mitigation is contemplated to occur. The BLM, acting as a participant in the HCP, will be responsible for reviewing and if considered appropriate, authorizing and assisting in the implementation of mitigation measures on BLM-administered land.

The covered area is situated in the southeastern corner of Lincoln County, and is approximately defined as the area north of the Clark County line, west of the Utah-Nevada border, south of Township 3 South, and east of Range 62 East, Mount Diablo Meridian. The covered area also includes approximately 4,000 acres of land west of Range 62 East identified for disposal by the BLM in the vicinity of the towns of Alamo and Hiko, and excludes private and leased lands in the Coyote Spring Valley. The Meadow Valley Wash and Clover Creek are two intermittently flowing streams that support riparian vegetation within the covered area. Clover Creek flows from the Nevada/Utah border east to its confluence with Meadow Valley Wash at Caliente, and the Meadow Valley Wash flows south through Caliente, crossing the Lincoln/Clark County line, and terminating at the confluence with the Muddy River in Glendale, Nevada.

The majority of development activity will be focused in three locations within the covered area: (1) The 13,500-acre Lincoln County Land Act (LCLA) lands located in the extreme southeastern corner of the covered area; (2) approximately 4,000 acres of land identified for disposal by the BLM in the vicinity of the towns of Alamo and Hiko; and (3) the 103-acre Meadow Valley Industrial Park site located on the eastern edge of Caliente. A per-acre mitigation fee will be collected by Lincoln County for disturbance of desert tortoise habitat prior to the commencement of construction activities, which will be used to fund implementation of the HCP. Other planned activities that may result in take of the proposed covered species include flood control projects in the portion of the Meadow Valley Wash that flows through Caliente, operation and maintenance activities conducted by Union Pacific Railroad, and existing agricultural practices conducted by private landowners along the Meadow Valley Wash and Clover Creek. The City of Caliente and Union Pacific Railroad will provide the funding necessary to create additional suitable flycatcher habitat or enhance the functional value of existing potentially suitable flycatcher habitat at a ratio of 2 acres for every one acre of native habitat removed, or at a ratio of one acre for every one acre of non-native habitat removed, as a result of the covered activities. Private landowners with property located along these two waterways may volunteer to participate in the HCP by signing a Participation Agreement provided by Lincoln County, which would extend take authorization under Lincoln County's permit to the participating landowner provided the landowner agrees to implement the minimization and mitigation measures in the HCP.

In order to comply with the ESA, the proposed HCP addresses a number of required elements, including: Species and habitat goals and objectives; evaluation of the direct and indirect effects of covered activities on covered species; a conservation strategy; a monitoring and adaptive management program; descriptions of changed circumstances and remedial measures; identification of funding sources; and an assessment of alternatives to take of listed species.

The proposed conservation strategy provides for the restoration and enhancement of desert tortoise habitat on land administered by the BLM within the Mormon Mesa and Beaver Dam Slope Critical Habitat Units. Over 30,000 acres of desert tortoise critical habitat impacted by wildfires and other disturbances could benefit from restoration projects and research funded and implemented under the HCP by improving the functional value of desert tortoise critical habitat above existing conditions. The applicants are also proposing to replace and manage in perpetuity all suitable flycatcher habitat lost as a result of the covered activities at a ratio of 2 acres of native habitat for every one acre of native habitat lost, and at a ratio of one acre of native habitat for every one acre of non-native habitat lost.

The proposed HCP is intended to be a comprehensive and multi-jurisdictional document, providing for regional species conservation and habitat planning, while allowing the applicants to better manage anticipated growth and development, and to maintain the safety of roads and railroads within the covered area. The proposed HCP also intends to provide a coordinated process for permitting and mitigating the take of covered species as an alternative to a project-by-project approach.

National Environmental Policy Act Compliance

Proposed permit issuance triggers the need for compliance with the National Environmental Policy Act (NEPA). Accordingly, a NEPA document has been prepared by the Service as the Federal agency responsible for compliance under NEPA. The Service is providing notice of the availability of the draft EIS, which evaluates the impacts of proposed issuance of the permit and implementation of the HCP, as well as evaluating the impacts of a reasonable range of alternatives.

The draft EIS analyzes two alternatives in addition to the proposed HCP, described above. The proposed HCP is considered the Preferred Alternative. Additional alternatives are described below.

The No Action Alternative: Under the No Action Alternative, the Service would not issue an incidental take permit to the applicants and the HCP would not be implemented. Under this scenario, private land development or other activities on non-Federal land that may adversely affect listed species would require individual incidental take permits. As such, Lincoln County would lose the ability to plan for coordinated, controlled urban growth, and species conservation would be implemented on a project-by-project basis, rather than at a regional landscape-scale.

Alternative A—Additional Lands for Development: Alternative A would increase the acreage on which the covered activities would occur, thereby increasing the acreage of habitat that may be disturbed within the term of the permit. Covered activities would remain the same as those under the Preferred Alternative. Alternative A would require consideration of adding to the permit and HCP additional federally listed species that occur in the Pahranagat Valley. The general conservation strategy would remain the same as described for the Preferred Alternative.

Public Comments

If you wish to comment on the permit application, draft HCP, draft EIS, or draft IA, you may submit your comments to the address listed in the ADDRESSES section of this document. Before including your address, phone number, e-mail address, or other personal identifying information in your comment, you should be aware that your entire comment—including your personal identifying information—may be made publicly available at any time. While you may ask us in your comment to withhold your personal identifying information from public review, we cannot guarantee that we will be able to do so.

The Service will evaluate the application, associated documents, and comments submitted to them to prepare a final EIS. A permit decision will be made no sooner than 30 days after the publication of the final EIS and completion of the Record of Decision.

This notice is provided pursuant to section 10(a) of the Act and pursuant to implementing regulations for NEPA (40 CFR 1506.6).

Dated: November 20, 2008.
Richard E. Sayers, Jr.,
Acting Deputy Regional Director, California and Nevada Region, Sacramento, California.

[FR Doc. E8-28704 Filed 12-4-08; 8:45 am]

BILLING CODE 4310-55-P